DEPARTMENT OF ENERGY

Federal Energy Regulatory Commission

[Project Nos. 14262-000; 14276-000; 14280-000]

Lock Hydro Friends Fund VIII, FFP Project 92 LLC, Riverbank Hydro No. 24 LLC; Notice of Competing Preliminary Permit Applications Accepted for Filing and Soliciting Comments, Motions To Intervene, and Competing Applications

On September 1, 2011, Lock Hydro Friends Fund VIII (Lock Hydro), FFP Project 92 LLC (FFP 92), and Riverbank Hydro No. 24 LLC (Riverbank), filed preliminary permit applications, pursuant to section 4(f) of the Federal Power Act, proposing to study the feasibility of a hydropower project at the U.S. Army Corps of Engineers' (Corps) Kentucky River Lock & Dam No. 11, located on the Kentucky River in Estill and Madison Counties, Kentucky. The sole purpose of a preliminary permit, if issued, is to grant the permit holder priority to file a license application during the permit term. A preliminary permit does not authorize the permit holder to perform any land-disturbing activities or otherwise enter upon lands or waters owned by others without the owners' express permission.

Lock Hydro's Project No. 14262-000 would consist of: (1) Increase the existing dam height by four feet to increase the reservoir level; (2) a powerhouse constructed in an abandoned lock, containing four generating units with a total combined capacity of 4.0 megawatts (MW); (3) a new switchyard containing a transformer; and (4) a proposed 1.2-mile-long, 25.0 kilo-volt (kV) transmission line to an existing power line. The proposed project would have an average annual generation of 22.776 GWh, and operate run-of-river utilizing surplus water from the Kentucky River Lock & Dam No. 11, as directed by the Corps.

Applicant Contact: Mr. Wayne F. Krouse, Hydro Green Energy, 5090 Richmond Avenue #390, Houston, TX 77056. (877) 556-6566.

FFP 92's Project No. 14276-000 would consist of: (1) An 350-foot-long, 50-foot-wide approach channel; (2) a powerhouse, located on the south side of the dam, containing one generating units with a total capacity of 4.9 MW; (3) a 280-foot-long, 70-foot-wide tailrace; (4) a 4.16/69 KV substation; and (5) a 4.5-mile-long, 69 kV transmission line. The proposed project would have an average annual generation of 19.5 GWh, and operate run-of-river utilizing surplus water from Kentucky River Lock & Dam No. 11, as directed by the Corps.

Applicant Contact: Ms. Ramya Swaminathan, Free Flow Power Corp., 239 Causeway Street, Suite 300, Boston, MA 02114. (978) 283-2822.

Riverbank's Project No. 14280-000 would consist of: (1) A forebay; (2) an intake structure; (3) a powerhouse containing two generating units with a total capacity of 4.6 MW; (4) a tailrace structure; and (5) a 2.0-mile-long, 25 KV transmission line. The project would have an estimated average annual generation of 21.3 gigawatt-hours (GWh), and operate run-of-river utilizing surplus water from the Kentucky River Lock & Dam No. 11, as directed by the Corps.

Applicant Contact: Mr. Vincent Lamarra, Riverbank Power USA, 975 South State Highway 89/91, Logan, UT 84321. (435) 752-2580.

FERC Contact: Michael Spencer, michael.spencer@ferc.gov, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-14262-000, 14276-000, or P-14280-000) in the docket number field to access the document. For assistance, contact FERC Online Support.

Dated: November 22, 2011.
Kimberly D. Bose,
Secretary.

[FR Doc. 2011-30680 Filed 11-28-11; 8:45 am]

BILLING CODE 6717-01-P